DEPARTMENT OF ENERGY

Federal Energy Regulatory Commission

[Docket No. RP03-203-000]

Sea Robin Pipeline Company; Notice of Proposed Changes in FERC Gas Tariff

December 18, 2002.

Take notice that on December 16, 2002, Sea Robin Pipeline Company (Sea Robin) tendered for filing as part of its FERC Gas Tariff, First Revised Volume No. 1, the following tariff sheet, proposed to be effective January 15, 2003:

Fourth Revised Sheet No. 10

Sea Robin states that this filing is being made to remove the referenced tariff sheet from Sea Robin's tariff as unnecessary. Sea Robin states that the tariff sheet reflects certain Unit Amounts associated with the transportation of natural gas liquids. The Unit Amounts were factors developed in the settlement of Docket No. RP80-55, Docket No. RP80-118, Docket No. RP81-73 and Docket No. RP82-32 to be used for cost allocation and revenue crediting. Those cost allocation and revenue crediting provisions were to remain in effect until the rates in Docket No. RP82-32 were superceded.

Sea Robin states that copies of this filing are being served on all jurisdictional customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: December 30, 2002.

Linwood A. Watson, Jr.,
Deputy Secretary.

[FR Doc. 02-32490 Filed 12-23-02; 8:45 am]

BILLING CODE 6717-01-P